INTERNATIONAL TRADE COMMISSION

[Investigation Nos. 701-TA-689 and 731-TA-1618 (Final)]

Non-Refillable Steel Cylinders From India; Determinations

On the basis of the record ¹ developed in the subject investigations, the United States International Trade Commission (“Commission”) determines, pursuant to the Tariff Act of 1930 (“the Act”), that an industry in the United States is materially injured by reason of imports of non-refillable steel cylinders (“NRSC”) from India, provided for in subheading 7311.00.00 of the Harmonized Tariff Schedule of the United States, that have been found by the U.S. Department of Commerce (“Commerce”) to be sold in the United States at less than fair value (“LTFV”), and imports of the subject merchandise from India that have been found to be subsidized by the government of India.²

¹ The record is defined in § 207.2(f) of the Commission's Rules of Practice and Procedure (19 CFR 207.2(f)).

² 89 FR 29294 (April 22, 2024) and 89 FR 29296 (April 22, 2024).

Background

The Commission instituted these investigations effective April 27, 2023, following receipt of petitions filed with the Commission and Commerce by Worthington Industries, Columbus, Ohio. The final phase of the investigations was scheduled by the Commission following notification of preliminary determinations by Commerce that imports of NRSC from India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 13, 2023 (88 FR 86379). The Commission conducted its hearing on April 16, 2024.

The Commission made these determinations pursuant to §§ 705(b) and 735(b) of the Act (19 U.S.C. 1671d(b) and 19 U.S.C. 1673d(b)). It completed and filed its determinations in these investigations on June 6, 2024. The views of the Commission are contained in USITC Publication 5509 (May 2024), entitled Non-Refillable Steel Cylinders from India: Investigation Nos. 701-TA-689 and 731-TA-1618 (Final).

By order of the Commission.
Issued: June 5, 2024.
Lisa Barton,
Secretary to the Commission.

[FR Doc. 2024-12797 Filed 6-11-24; 8:45 am]

BILLING CODE 7020-02-P